GENERAL SERVICES ADMINISTRATION

[Notice-MG-2024-03; Docket No. 2024-0002; Sequence No. 35]

Office of Federal High-Performance Green Buildings; Green Building Advisory Committee; Notification of Upcoming Public Meetings

AGENCY: Office of Government-wide Policy, General Services Administration (GSA).

ACTION: Meeting notice.

SUMMARY: In accordance with the requirements of the Federal Advisory Committee Act, as amended, this notice provides the agenda for three separate open public meetings of the Green Building Advisory Committee (GBAC or the Committee). The meetings are open to the public to observe and will be held either entirely online or include an online option. Online attendees are required to register in advance to attend as instructed below.

DATES: The Committee plans the following three meetings.

• GBAC August 13th Public Meeting: GSA's Green Building Certification System (GBCS) Review Briefing

○ Tuesday, August 13th from Noon-2 p.m. eastern time, (ET) (Virtual Only via Zoom)

• GBAC September 26th Public Meeting: Artificial Intelligence (AI) and Federal Buildings

○ Thursday, September 26th from 11:30 a.m.-3:30 p.m. ET (Virtual Only via Zoom)

• GBAC October 22nd Public Meeting: Green Building Advisory Committee Fall Meeting

○ Tuesday, October 22nd, 10 a.m.-4 p.m., ET (Hybrid, in person and online via Zoom)

ADDRESSES: The GBAC October 22nd Public Meeting will be held at National Academies of Science, NAS Board Room, 201 Constitution Ave., Washington, DC. The other two meetings will be virtual only.

FOR FURTHER INFORMATION CONTACT: Mr. Michael Bloom, Designated Federal Officer, Office of Federal High-Performance Green Buildings, Office of Government-wide Policy, GSA, at gbac@gsa.gov or 312-805-6799. Additional information about the Committee, including meeting materials and agendas, will be made available on-line at https://www.gsa.gov/gbac.

SUPPLEMENTARY INFORMATION:

• GBAC August 13th Public Meeting: GSA's Green Building Certification System (GBCS) Review Briefing

○ Agenda: GBCS Review Review

Opening & Welcome

GBCS brief—Bryan Steverson; GSA

Discussion—GBAC Members

Public Comment

Adjourn

○ Details: The public meeting will consist of a briefing by GSA's Office of Federal High-Performance Green Buildings to the Committee about the 2024 Green Building Certification System Review Findings Report (Findings Report) The Findings Report can be accessed at https://www.gsa.gov/gbcertificationreview. This report summarizes GSA's formal review of six green building certification systems (BOMA BEST, BREEAM, Green Globes, LEED, Living Building Challenge, and Passive House US, Inc). These systems were assessed against a set of review criteria contained in statute that evaluate how they were developed and how the systems align with current federal green building performance requirements.

• GBAC September 26th Public Meeting: Artificial Intelligence (AI) and Federal Buildings

○ Agenda: AI & Federal Buildings

Welcome & Opening Remarks

AI in Operations (Panel)

AI in Renovations (Panel)

AI in New Construction (Panel)

Public Comment

Closing Remarks & Adjourn

○ Details: This public meeting will investigate the opportunities AI offers GSA to optimize resources and improve facility operations and consider how AI technologies can accelerate building decarbonization.

• GBAC October 22nd Public Meeting: Green Building Advisory Committee Fall Meeting

○ Agenda GBAC Fall Meeting

Updates and Introductions

Ethics Review

Buy Clean Implications Task Group: Proposed Advice Letter

AI and Federal Buildings Update

Health and Wellbeing in Federal Buildings Update

New Committee Topics and Directions

Public Comment

Next Steps and Closing Comments

○ Details: This public meeting will serve as an annual review of GBAC activities. Members will have the opportunity to ask questions about ongoing Task Group work and suggest future topics they wish to investigate.

Procedures for Attendance and Public Comment

To register to observe any or all of these public meetings, please send the following information via email to gbac@gsa.gov: your first and last name, organization and email address, the meeting(s) you wish to attend, and whether you would like to provide public comment.

Requests to observe meetings must be received by 5 p.m. ET on the Tuesday before the meeting in question.

For all online meetings, web meeting attendance information will be provided following registration. Time will be provided at all meetings for public comment wherever possible.

GSA will be unable to provide technical assistance to any listener experiencing technical difficulties. Testing access to the web meeting site before the calls is recommended. To request an accommodation, such as closed captioning, or to ask about accessibility, please contact Mr. Bloom at gbac@gsa.gov at least five business days prior to the meeting to give GSA as much time as possible to process the request.

Background

The Administrator of GSA established the Committee on June 20, 2011 (76 FR 35894) pursuant to section 494 of the Energy Independence and Security Act of 2007 (EISA, 42 U.S.C. 17123). Under this authority, the Committee provides independent policy advice and recommendations to GSA to advance Federal building innovations in planning, design, and operations to reduce costs, enable agency missions, enhance human health and performance, and minimize environmental impacts.

Kinga Hydras,
Acting Director, Office of Federal High-Performance Green Buildings, General Services Administration.

[FR Doc. 2024-16493 Filed 7-25-24; 8:45 am]

BILLING CODE 6820-14-P